FARM CREDIT ADMINISTRATION

Farm Credit Administration Board; Special Meeting; Sunshine Act Meeting

AGENCY: Farm Credit Administration.

SUMMARY: Notice is hereby given, pursuant to the Government in the Sunshine Act (5 U.S.C. 552b(e)(3)), of the forthcoming special meeting of the Farm Credit Administration Board (Board).

DATE AND TIME: The special meeting of the Board will be held at the offices of the Farm Credit Administration in McLean, Virginia, on July 20, 2000, from 9:00 a.m. until such time as the Board concludes its business.

FOR FURTHER INFORMATION CONTACT: Kelly Mikel Williams, Secretary to the Farm Credit Administration Board, (703) 883-4025, TDD (703) 883-4444.

ADDRESS: Farm Credit Administration, 1501 Farm Credit Drive, McLean, Virginia 22102-5090.

SUPPLEMENTARY INFORMATION: Parts of this meeting of the Board will be open to the public (limited space available), and parts will be closed to the public. In order to increase the accessibility to Board meetings, persons requiring assistance should make arrangements in advance. The matters to be considered at the meeting are:

OPEN SESSION

A. Approval of Minutes

—June 8, 2000 (Open)

B. Reports

—Mission-Related Investment Prior Approval

—Notice and Request for Comment on National Charters Booklet

C. New Business

1. Regulations

—Civil Money Penalty Adjustment [12 CFR Part 622] (Final)

—Loan Purchase and Sales [12 CFR Parts 614 and 619] (Proposed)

—Stockholder Vote on Like Lending Authority [12 CFR Part 611] (Final)

2. Other—Corporate Approvals

—Sacramento Valley ACA

—Yosemite FLCA

3. Report

—Report on Corporate Approvals

CLOSED SESSION*

D. Report

—Litigation

Dated: July 14, 2000.
Kelly Mikel Williams,
Secretary, Farm Credit Administration Board.

* Session closed—exempt pursuant to 5 U.S.C. 552b(c)(10).

[FR Doc. 00-18284 Filed 7-14-00; 3:48 pm]

BILLING CODE 6705-01-P